DEPARTMENT OF HEALTH AND HUMAN SERVICES

Administration for Children and Families

Submission for OMB Review; Comment Request

Title: Information Comparison with Insurance Data.

OMB No.: 0970-0342.

Description

The Deficit Reduction Act of 2005 amended Section 452 of the Social Security Act (the Act) to authorize the Secretary, through the Federal Parent Locator Service (FPLS), to conduct comparisons of information concerning individuals owing past-due child support with information maintained by insurers (or their agents) concerning insurance claims, settlements, awards, and payments. Public Law 109-171, § 7306. The Federal Office of Child Support Enforcement (OCSE) operates the FPLS in accordance with section 453(a)(1) of the Act. The Federal Case Registry of Child Support Orders (FCR) is maintained in the FPLS in accordance with section 453(h)(1) of the Act.

At the option of an insurer, the comparison may be accomplished by either of the following methods. Under the first method, an insurer or the insurer's agent will submit to OCSE information concerning claims, settlements, awards, and payments. OCSE will compare that information with information pertaining to individuals owing past-due support.

Under the second method, OCSE will furnish to the insurer or the insurer's agent a file containing information pertaining to individuals owing past-due support. The insurer or the insurer's agent will compare that information with information pertaining to claims, settlements, awards, and payments. The insurer will furnish the information resulting from the comparison to OCSE.

On a daily basis OCSE will furnish the results of the comparison by transmitting the Insurance Match Response Record to the state agencies responsible for collecting past-due child support from the individuals. The results of the comparison will be used by the state agencies to collect past-due child support from the insurance proceeds.

Respondents

Insures or their agents, including the U.S. Department of Labor and State agencies administering Workers Compensation program, and the Insurance Services Office (ISO).

Annual Burden Estimates
Instrument | Number of respondents | Number of responses per respondent | Average burden hours per response | Total burden hours
Insurance Match Agreement | 22 | 1 | 0.50 | 11
Insurance Match File | 22 | 0.50 | 0.50 | 132

Estimated Total Annual Burden Hours: 143.

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, E-mail: OIRA_SUBMISSION@OMB.eop.gov, Attn: Desk Officer for the Administration for Children and Families.

Robert Sargis,
Reports Clearance Officer.

[FR Doc. 2011-15354 Filed 6-20-11; 8:45 am]

BILLING CODE 4184-01-P